DEPARTMENT OF THE TREASURY

United States Mint

Notification of Citizens Coinage Advisory Committee, Public Meeting

ACTION: Notice.

SUMMARY: Pursuant to United States Code, Title 31, section 5135(b)(8)(C), the United States Mint announces the Citizens Coinage Advisory Committee (CCAC) public meeting scheduled for May 25, 2011.

Date: May 25, 2011.

Time: 9 a.m. to 1 p.m.

Location: Conference Room A, United States Mint, 801 9th Street, NW., Washington, DC 20220.

Subject: Review and consideration of candidate designs for the 2012 National Infantry Museum and Soldier Center Commemorative Coin Program; candidate designs for the 100th Infantry Battalion, the 442nd Regimental Combat Team, and the Military Intelligence Service, collectively, Congressional Gold Medal; and draft narratives for the 2013 and 2014 Native American $1 Coin Program.

Interested persons should call the CCAC HOTLINE at (202) 354-7502 for the latest update on meeting time and room location.

In accordance With 31 U.S.C. 5135, the CCAC:

• Advises the Secretary of the Treasury on any theme or design proposals relating to circulating coinage, bullion coinage, Congressional Gold Medals, and national and other medals.

• Advises the Secretary of the Treasury with regard to the events, persons, or places to be commemorated by the issuance of commemorative coins in each of the five calendar years succeeding the year in which a commemorative coin designation is made.

• Makes recommendations with respect to the mintage level for any commemorative coin recommended.

FOR FURTHER INFORMATION CONTACT: Greg Weinman, Acting United States Mint Liaison to the CCAC; 801 9th Street, NW.; Washington, DC 20220; or call 202-354-7200.

Any member of the public interested in submitting matters for the CCAC's consideration is invited to submit them by fax to the following number: 202-756-6525.

Authority: 31 U.S.C. 5135(b)(8)(C).

Dated: April 27, 2011.
Richard A. Peterson,
Acting Director, United States Mint.

[FR Doc. 2011-10710 Filed 5-2-11; 8:45 am]

BILLING CODE P